DEPARTMENT OF THE TREASURY

Departmental Offices; Privacy Act of 1974, System of Records

AGENCY: Departmental Offices, Treasury.

ACTION: Notice of Proposed Alteration to a Privacy Act System of Records.

SUMMARY: In accordance with the requirements of the Privacy Act of 1974, as amended, the United States Department of the Treasury gives notice of alterations to its Privacy Act systems of records entitled “Treasury/DO .196—Security Information System.”

DATES: Comments should be received no later than March 16, 2012. The changes will be effective March 21, 2012 unless the Department receives comments that would result in a contrary determination.

ADDRESSES: Comments should be sent to the Office of Security Programs, Room 3180 Treasury Annex, 1500 Pennsylvania Avenue NW., Washington, DC 20220. The Department will make such comments available for public inspection and copying at the Department of the Treasury Library, 1500 Pennsylvania Avenue NW., Washington DC 20020 on official business days between the hours of 9 a.m. and 5 p.m. Eastern Time. Persons wishing to inspect the comments submitted must request an appointment by telephoning (202) 622-0990. All comments, including attachments and other supporting materials, received are part of the public record and subject to public disclosure. You should submit only information that you wish to make available publicly.

FOR FURTHER INFORMATION CONTACT: Wade C. Straw, Director, Office of Security Programs, (202) 622-7870 or at wade.straw@Treasury.com.

SUPPLEMENTARY INFORMATION: The Department has reviewed this system of records and determined that it should be updated to capture changes required by Executive Order 13526, as well as other alterations to:

(1) Change the name of the system to “Treasury Information Security Program”;

(2) Add as a category of individuals covered by the system individuals who have received security training;

(3) Increase the types of records in the system reflecting on the process to issue courier cards and official credentials;

(4) Implement pertinent aspects of the Executive Order on security classification;

(5) Revise routine use (1) and add three routine uses under which a disclosure from the system is permitted, and

(6) Update the description under “storage” to indicate records are also stored electronically.

The revised and new routine uses read as follows:

(1) These records may be used to disclose pertinent information to appropriate Federal agencies responsible for the protection of national security information, or reporting a security violation of, or enforcing, or implementing, a statute, rule, regulation, or order, or where the Department becomes aware of an indication of a potential violation of civil or criminal law or regulation, rule or order.

(2) These records may be used to disclose pertinent information to provide information to a congressional office in response to an inquiry made at the request of the individual to whom the record pertains.

(3) These records may be used to disclose pertinent information to another Federal agency, to a court, or a party in litigation before a court or in an administrative proceeding being conducted by a Federal agency, when the Federal Government is a party to the judicial or administrative proceeding. In those cases where the Federal Government is not a party to the proceeding, records may be disclosed if a subpoena has been signed by a court of competent jurisdiction.

(4) These records may be used to disclose pertinent information to the United States Department of Justice for the purpose of representing or providing legal advice to the Treasury Department (Department) in a proceeding before a court, adjudicative body, or other administrative body before which the Department is authorized to appear, when such proceeding involves:

(A) The Department or any component thereof;

(B) Any employee of the Department in his or her official capacity;

(C) Any employee of the Department in his or her individual capacity where the Department of Justice or the Department has agreed to represent the employee; or

(D) The United States, when the Department determines that litigation is likely to affect the Department or any of its components.

The system of records notice was last published in its entirety on April 20, 2010, at 75 FR 20690. The proposed alterations to the system of records entitled “Treasury/DO .196—Treasury Information Security Program” is published in its entirety below.

Dated: January 26, 2012.
Melissa Hartman,
Deputy Assistant Secretary for Privacy and Treasury Records.

TREASURY/DO .196

System name:

Treasury Information Security Program.

System location:

Department of the Treasury, Office of Security Programs, Room 3180 Treasury Annex, 1500 Pennsylvania Avenue NW., Washington, DC 20220.

Categories of individuals covered by the system:

(1) Each Department of the Treasury official, by name and position title, who has been delegated the authority to downgrade and declassify national security information and who is not otherwise authorized to originally classify.

(2) Each Department of the Treasury official, by name and position title, who has been delegated the authority for original classification of national security information, exclusive of officials specifically given this authority via Treasury Order 105-19.

(3) Department of the Treasury employees who have valid security violations as a result of the improper handling/processing, safeguarding or storage of classified information or collateral national security systems.

(4) Department of the Treasury employees (including detailees, interns and select contractors) who receive initial, specialized and/or annual refresher training on requirements for protecting classified information.

(5) Department of the Treasury employees and contractors issued a courier card authorizing them to physically transport classified information within and between Treasury, bureaus, and other U.S. Government agencies and departments.

(6) Departmental Offices officials and bureau heads issued Department of the Treasury credentials as evidence of their authority and empowerment to execute and fulfill the duties of their appointed office and those Departmental Offices officials authorized to conduct official investigations and/or inquiries on behalf of the U.S. Government.

Categories of records in the system:

(1) Report of Authorized Downgrading and Declassification Officials, (2) Report of Authorized Classifiers, (3) Record of Security Violation, (4) Security Orientation Acknowledgment, (5) Request and Receipt for Courier Card, and (6) Request and Receipt for Official Credential.

Authority for maintenance of the system:

Executive Order 13526, dated December 29, 2009 and the Treasury Security Manual, TD P 15-71, last updated October 28, 2011.

Purpose(s):

The system is designed to (1) Oversee compliance with Executive Order 13526, Information Security Oversight Office Directives, the Treasury Security Manual, and Departmental security programs, (2) ensure proper classification of national security information, (3) record details of valid security violations, (4) assist in determining the effectiveness of information security programs affecting classified and sensitive information, and (5) safeguard classified information throughout its entire life-cycle.

Routine uses of records maintained in the system, including categories of users and the purpose of such uses:

These records may be used to disclose pertinent information to:

(1) Appropriate Federal agencies responsible for the protection of national security information, or reporting a security violation of, or enforcing, or implementing, a statute, rule, regulation, or order, or where the Department becomes aware of an indication of a potential violation of civil or criminal law or regulation, rule or order;

(2) Provide information to a congressional office in response to an inquiry made at the request of the individual to whom the record pertains;

(3) Another Federal agency, to a court, or a party in litigation before a court or in an administrative proceeding being conducted by a Federal agency, when the Federal Government is a party to the judicial or administrative proceeding. In those cases where the Federal Government is not a party to the proceeding, records may be disclosed if a subpoena has been signed by a court of competent jurisdiction;

(4) The United States Department of Justice for the purpose of representing or providing legal advice to the Treasury Department (Department) in a proceeding before a court, adjudicative body, or other administrative body before which the Department is authorized to appear, when such proceeding involves:

(A) The Department or any component thereof;

(B) Any employee of the Department in his or her official capacity;

(C) Any employee of the Department in his or her individual capacity where the Department of Justice or the Department has agreed to represent the employee; or

(D) The United States, when the Department determines that litigation is likely to affect the Department or any of its components, and

(5) Appropriate agencies, entities, and persons when: (a) the Department suspects or has confirmed that the security or confidentiality of information in the system of records has been compromised; (b) the Department has determined that as a result of the suspected or confirmed compromise that there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Electronic media and hard copy files.

Retrievability:

Records may be retrieved by the name of the official or employee, contractor, detailee or intern, bureau head and/or chief deputy.

Safeguards:

Secured in security containers and/or controlled space to which access is limited to Office of Security Programs security officials with the need to know.

Retention and disposal:

Records are retained and disposed of in accordance with General Records Schedule 18, with the exception of the Record of Security Violation (retained for a period of two years) and the Security Orientation Acknowledgment, the Request and Receipt for Courier Card, and the Request and Receipt for Official Credential, the remaining records are destroyed and/or updated on an annual basis. Destruction is effected by on-site shredding or other comparable means.

System manager(s) and address:

Assistant Director, (Information Security), Office of Security Programs, Room 3180 Treasury Annex, 1500 Pennsylvania Avenue NW., Washington, DC 20220.

Notification procedure:

Individuals wishing to be notified if they are named in this system of records, gain access to records maintained in this system, or seek to contest its content, must submit a written request containing the following elements: (1) Identify the record system; (2) identify the category and type of records sought; and (3) provide at least two items of secondary identification (See 31 CFR Part 1, Appendix A). Address inquiries to: Director, Disclosure Services, Department of the Treasury, 1500 Pennsylvania Ave. NW., Washington, DC 20220.

Records access procedures:

See “notification procedure” above.

Contesting records procedures:

See “notification procedure” above.

Record source categories:

The sources of the information are employees of the Department of the Treasury. The information concerning any security violation is reported by Department of the Treasury security officials and by Department of State security officials as concerns Treasury or bureau personnel assigned to overseas U.S. diplomatic posts or missions.

Exemptions claimed for the system:

None.

[FR Doc. 2012-3457 Filed 2-14-12; 8:45 am]

BILLING CODE 4810-25-P